DEPARTMENT OF THE INTERIOR

U.S. Geological Survey

Federal Geographic Data Committee (FGDC); Public Review of the U.S. National Grid Standard

ACTION: Notice; request for comments.

SUMMARY: The FGDC is conducting a public review of the draft U.S. National Grid standard. An interorganizational team sponsored by the FGDC Standards Working Group developed this draft standard over several years and the FGDC Coordination Group comprised of representatives from Federal agencies approved releasing this standard for public review. The FGDC invites software vendors and data users and producers in public and private sectors to comment on this standard to ensure that the standard meets their needs.

Comments that address specific issues/changes/additions may result in revisions to the draft U.S. National Grid Standard. After comments have been evaluated, participants will receive notification of how their comments were addressed. After formal endorsement of the standard by the FGDC, the standard and a summary analysis of the changes will be made available to the public.

DATES: Comments must be received on or before June 22, 2001.

ADDRESSES: The draft standard may be downloaded via Internet address http://www.fgdc.gov/standards/status/usng.html/.

Request for printed copies of the standard should be addressed to “U.S. National Grid Standard,” FGDC Secretariat (attn: Julie Binder Maitra), U.S. Geological Survey, 590 National Center, 12201 Sunrise Valley Drive, Reston, Virginia 20192 or facsimile 703-648-5755 or Internet at jmaitra@usgs.gov.

Reviewer's comments may be sent to FGDC via Internet mail to gdc-usgrid@ www.fgdc.gov. Reviewer's comments may also be sent to the FGDC Secretariat at the above postal address. Please send one hardcopy version of the comments and a softcopy version on 3.5-inch diskette in Microsoft Word or Rich Text Format. All reviewers are strongly urged to use the template for sending comments that may be downloaded from Internet address http://www.fgdc.gov/standards/directives/dir2d.html.

SUPPLEMENTARY INFORMATION: Following is information about the draft U.S. National Grid, submitted by the FGDC Standards Working Group:

Objective: The objective of this standard is to create a more favorable environment for developing location-based services within the United States and to increase the interoperability of location services appliances with traditional printed map products by establishing a nationally consistent grid reference system as the preferred grid for National Spatial Data Infrastructure (NSDI) applications.

There are a number of coordinate reference systems that can be used either in location service appliances or on printed maps for the purpose of establishing a location. Within automated location service appliances, the conversion of coordinates based on one well-defined reference system to coordinates based on another can be both automatic and transparent to the user. These devices can support multiple coordinate reference systems with little difficulty. However, it is not easy for users to work in multiple reference systems and to convert between systems without the aid of location service appliances, calculators, or conversion tables. Furthermore, it is difficult for users to accurately determine a location coordinate from paper maps when spherical coordinate reference systems, like latitude and longitude, are used because they do not appear square on the flat map. As a consequence paper maps created for the general public frequently have a square reference grid that overlays the non-rectangular coordinate reference system. It is computationally difficult, labor intensive, and time consuming to convert the reference grid coordinate obtained from one printed map to another printed map with a different grid even when both grid reference systems are well defined. It can be impossible when proprietary grids are used. This situation greatly limits the ability of users to use location service devices with traditional printed maps. Subsequently, location based services in this country have been limited to totally digital environments, restricting the number of users and uses and retarding the development of the location based service industry.

This standard seeks to improve the current situation by identifying a single nationally consistent, humanly facile grid reference system as the preferred U.S. National Grid (USNG) and promoting its use within the NSDI.

Scope: This standard defines a preferred U.S. National Grid (USNG) for large and medium-scale mapping applications; for this standard, large and medium-scale shall be defined as from approximately 1:5000 to 1:1,000,000 applications. It defines how to present UTM coordinates at various levels of precision. It specifies the use of those coordinates with the grid system defined by the Military Grid Reference System (MGRS). Additionally, it addresses specific presentation issues such as grid spacing. The UTM coordinate representation, the MGRS grid, and the specific grid presentation requirements together define the USNG. This standard is a process standard as defined by the FGDC Standards Reference Model. Specifically, it is a presentation process standard.

Applicability: This standard is for use in the acquisition or production, either directly or indirectly through contracts and partnerships, of printed maps and the acquisition, either directly or indirectly, of location service appliances. The USNG addresses the geospatial coordinate, user interface of products and services designed as interoperable components of the NSDI. This standard applies to printed maps that are to be used in conjunction with location service appliances and to location service appliances that are to be used in conjunction with printed map products.

This standard is not applicable to the collection of geospatial data, either remote sensed data collection or field surveys. This standard is not applicable to the internal data storage structure of any GIS or location service appliance or to the transfer of coordinates between databases or appliances.

Use of USNG grid coordinates may be useful or even desirable within some systems or enterprises. The decision to use USNG grid coordinates or some other coordinate system internal to geographic information systems or location service appliances is left to the discretion of the system developer as long as the user interface provides for USNG grid coordinate readout as one option.

The USNG is not applicable to surveying. This standard does not attempt to replace the State Plane Coordinate Systems (SPCS) established by the National Geodetic Survey specifically for field surveying. The SPCS is specifically designed to meet the requirements of surveyors and engineers in determining location and boundaries and most states mandate its use by law especially for cadastral surveys. The USNG does not address those needs. SPCS coordinates can be readily converted to USNG grid coordinates for subsequent use within the NSDI.

The USNG is interoperable with the MGRS. This will be of critical importance to safety of life during times of disaster relief operations.

Dated: April 11, 2001.
Karen Siderelis,
Geographic Information Officer.

[FR Doc. 01-9770 Filed 4-14-01; 8:45 am]

BILLING CODE 4310-Y7-M